DEPARTMENT OF LABOR

Employment and Training Administration

[TA-W-38,301]

York International Unitary Products Group, Elyria, OH; Notice of Negative Determination Regarding Application for Reconsideration

By application dated March 5, 2001, petitioners requested administrative reconsideration of the Department's negative determination regarding eligibility to apply for Trade Adjustment Assistance (TAA), applicable to workers and former workers of the subject firm. The denial notice was signed on February 20, 2001, and published in the Federal Register on April 5, 2001 (66 FR 18117).

Pursuant to 29 CFR 90.18(c) reconsideration may be granted under the following circumstances:

(1) If it appears on the basis of facts not previously considered that the determination complained of was erroneous;

(2) if its appears that the determination complained of was based on a mistake in the determination of facts not previously considered; or

(3) if in the opinion of the Certifying Officer, a misinterpretation of facts or of the law justified reconsideration of the decision.

The investigation findings for the February 20 denial of TAA for workers of York International, producing residential and light commercial heating and air conditioning products in Elyria, Ohio showed that criterion (3) of the group eligibility requirements of section 222 of the Trade Act was not met. There were no company imports of the above-mentioned products.

The petitioner asserts that when the subject firm plant closes the production of evaporator coils and air handling units will be transferred to Monterrey, Mexico. The petition investigation revealed that the company does not import products like or directly competitive with that which was produced in Elyria, Ohio. While there are company plans to relocate the production of evaporator coils and air handling units from its Elyria, Ohio facility to Monterrey, Mexico until such time as this occurs and the products are imported back into the United States, criterion (3) is not met.

The workers of York International may wish to consider filing a petition for NAFTA-Transitional Adjustment Assistance.

Conclusion

After review of the application and investigation findings, I conclude that there has been no error or misinterpretation of the law or of the facts which would justify reconsideration of the Department of Labor's prior decision. Accordingly, the application is denied.

Signed in Washington, DC this 2nd day of August, 2001.
Edward A. Tomchick,
Director, Division of Trade Adjustment Assistance.

[FR Doc. 01-20545 Filed 8-14-01; 8:45 am]

BILLING CODE 4510-30-M